Title 3—

The President

Memorandum of December 8, 2006

Designation of Officers of the Department of Justice

Memorandum for the Attorney General

By the authority vested in me as President by the Constitution and the laws of the United States of America, including the Federal Vacancies Reform Act of 1998, 5 U.S.C. 3345 et seq., I hereby order that:

Section 1. Order of Succession. During any period when the Attorney General, the Deputy Attorney General, the Associate Attorney General, and the officers designated by the Attorney General pursuant to 28 U.S.C. 508 to act as Attorney General have died, resigned, or otherwise become unable to perform the functions and duties of the office of Attorney General, the following officers of the Department of Justice, in the order listed, shall perform the functions and duties of the office of Attorney General, if they are eligible to act as Attorney General under the Federal Vacancies Reform Act of 1998, until such time as at least one of the officers mentioned above is able to perform the functions and duties of the office of Attorney General:

United States Attorney for the Southern District of New York;

United States Attorney for the Eastern District of Virginia; and

United States Attorney for the Western District of Texas.

Sec. 2. Exceptions. (a) No individual who is serving in an office listed in section 1 in an acting capacity, by virtue of so serving, shall act as Attorney General pursuant to this memorandum.

(b) Notwithstanding the provisions of this memorandum, the President retains discretion, to the extent permitted by the Federal Vacancies Reform Act of 1998, 5 U.S.C. 3345 et seq., to depart from this memorandum in designating an acting Attorney General.

Sec. 3. The Memorandum for the Attorney General of March 19, 2002, entitled “Designation of Officers of the Department of Justice,” is hereby revoked.

Sec. 4. The Attorney General is authorized and directed to publish this memorandum in the Federal Register.

THE WHITE HOUSE,

Washington, December 8, 2006.

[FR Doc. 06-9691

Filed 12-11-06; 10:31 am]

Billing code 4410-19-M